SECURITIES AND EXCHANGE COMMISSION

Sunshine Act Meeting

Federal Register Citation of Previous Announcement: 71 FR 42888, July 28, 2006.

Status: Closed Meeting.

Place: 100 F Street, NE., Washington, DC.

Date and Time of Previously Announced Meeting: August 1, 2006 at 2 p.m.

change in the Meetings: Date and Time Change.

The Closed Meeting scheduled for Tuesday, August 1, 2006 at 2 p.m., has been changed to Friday, August 4, 2006 at 2 p.m.

At times, changes in Commission priorities require alterations in the scheduling of meeting items. For further information and to ascertain what, if any, matters have been added, deleted or postponed, please contact: The Office of the Secretary at (202) 551-5400.

Dated: July 31, 2006.
Jill M. Peterson,
Assistant Secretary.

[FR Doc. 06-6669 Filed 7-31-06; 3:52 pm]

BILLING CODE 8010-01-P